DEPARTMENT OF TRANSPORTATION

Federal Aviation Administration

14 CFR Part 39

[Docket No. FAA-2005-20970; Directorate Identifier 2004-NM-53-AD]

RIN 2120-AA64

Airworthiness Directives; Cessna Model 500, 501, 550, S550, 551, and 560 Airplanes

AGENCY: Federal Aviation Administration (FAA), Department of Transportation (DOT).

ACTION: Supplemental notice of proposed rulemaking (NPRM); reopening of comment period.

SUMMARY: The FAA is revising an earlier proposed airworthiness directive (AD) for certain Cessna Model 500, 501, 550, S550, 551, and 560 airplanes. The original NPRM would have required revising the airplane flight manual (AFM) to prohibit use of the wing fuel boost pumps for defueling under certain conditions; installing a placard; doing other specified investigative and corrective actions as necessary; and modifying the boost pumps. The original NPRM also would have required the subsequent removal of the AFM revision and placard. The original NPRM resulted from a report of a chafed electrical wiring harness, which was arcing inside the fuel tank. This action revises the original NPRM by identifying certain service information not identified in the original NPRM. We are proposing this supplemental NPRM to prevent potential fuel vapor ignition in a fuel tank, which could result in explosion and loss of the airplane.

DATES: We must receive comments on this supplemental NPRM by November 21, 2005.

ADDRESSES: Use one of the following addresses to submit comments on this supplemental NPRM.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Cessna Aircraft Co., P.O. Box 7706, Wichita, Kansas 67277.

FOR FURTHER INFORMATION CONTACT: Bryan Easterwood, Aerospace Engineer, Electrical Systems and Avionics Branch, ACE-119W, FAA, Wichita Aircraft Certification Office, 1801 Airport Road, room 100, Mid-Continent Airport, Wichita, Kansas 67209; telephone (316) 946-4132; fax (316) 946-4107.

SUPPLEMENTARY INFORMATION:

Comments Invited

We invite you to submit any relevant written data, views, or arguments regarding this supplemental NPRM. Send your comments to an address listed in the ADDRESSES section. Include the docket number “Docket No. FAA-2005-20970; Directorate Identifier 2004-NM-53-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this supplemental NPRM. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level in the Nassif Building at the DOT street address stated in ADDRESSES. Comments will be available in the AD docket shortly after the Docket Management System receives them.

Discussion

We proposed to amend 14 CFR part 39 with a notice of proposed rulemaking (NPRM) for an AD (the “original NPRM”) for certain Cessna Model 500, 501, 550, S550, 551, and 560 airplanes. The original NPRM was published in the Federal Register on April 18, 2005 (70 FR 20083). The original NPRM proposed to require revising the airplane flight manual (AFM) to prohibit use of the wing fuel boost pumps for defueling under certain conditions; installing a placard; doing other specified investigative and corrective actions as necessary; and modifying the boost pumps. The original NPRM also proposed to require the subsequent removal of the AFM revision and placard.

Actions Since Original NPRM Was Issued

Since we issued the original NPRM, we received no comments on the original NPRM or on the determination of the cost to the public. However, we have learned that the temporary revisions (TRs) were not identified in certain service bulletins cited in the original NPRM. This information is provided in the table in the next section.

Relevant Service Information

We have reviewed the TRs identified in the following table.

TRs
Cessna temporary change— | Dated— | To the—
500FM TC-R57-01 | April 5, 2004 | Cessna Model 500 AFM.
500FM TC-R57-02 | April 5, 2004 | Cessna Model 500 AFM.
500FM TC-R57-03 | April 5, 2004 | Cessna Model 500 AFM.
55BFM TC-R10-07 | March 17, 2004 | Cessna Model 550 Citation Bravo AFM.
55BFM TC-R10-08 | March 17, 2004 | Cessna Model 550 Citation Bravo AFM.
55BFM TC-R10-09 | March 17, 2004 | Cessna Model 550 Citation Bravo AFM.
560FM TC-R13-01 | March 4, 2004 | Cessna Model 560 Citation V AFM.
560FM TC-R13-02 | March 4, 2004 | Cessna Model 560 Citation V AFM.
560FM TC-R13-03 | March 4, 2004 | Cessna Model 560 Citation V AFM.
56FMA TC-04-01 | March 4, 2004 | Cessna Model 560 Citation Ultra AFM.
56FMA TC-04-02 | March 4, 2004 | Cessna Model 560 Citation Ultra AFM.
56FMA TC-04-03 | March 4, 2004 | Cessna Model 560 Citation Ultra AFM.
56FMB TC-R03-10 | March 12, 2004 | Cessna Model 550 AFM.
56FMB TC-R03-11 | March 12, 2004 | Cessna Model 560 AFM.
56FMB TC-R03-12 | March 12, 2004 | Cessna Model 560 AFM.
S55CA TC-04-01 | July 8, 2004 | Cessna Model S550 Citation S/II AFM.
S55CA TC-04-02 | July 8, 2004 | Cessna Model S550 Citation S/II AFM.
S55CA TC-04-03 | July 8, 2004 | Cessna Model S550 Citation S/II AFM.
S55FM TC-04-01 | March 4, 2004 | Cessna Model S550 Citation S/II AFM.
S55FM TC-04-02 | March 4, 2004 | Cessna Model S550 Citation S/II AFM.
S55FM TC-04-03 | March 4, 2004 | Cessna Model S550 Citation S/II AFM.

The TRs prohibit use of the wing fuel boost pumps for defueling under certain conditions. Accomplishing the actions specified in the service information described in the original and supplemental NPRMs is intended to adequately address the unsafe condition.

FAA's Determination and Proposed Requirements of the Supplemental NPRM

The changes discussed above expand the scope of the original NPRM; therefore, we have determined that it is necessary to reopen the comment period to provide additional opportunity for public comment on this supplemental NPRM.

Costs of Compliance

There are about 2,397 airplanes of the affected design in the worldwide fleet. The following table provides the estimated costs for U.S. operators to comply with this supplemental NPRM.

Estimated Costs
Applicable service bulletin | Work hours | Average hourly labor rate | Parts | Cost per airplane | Number of U.S.- registered airplanes | Fleet cost
SB500-28-12 | 20 | $65 | $2,229 | $3,529 | 444 | $1,566,876
SBS550-28-08 | 12 | 65 | 102 | 882 | 126 | 111,132
SB550-28-14 | 8 | 65 | 1,992 | 2,512 | 469 | 1,178,128
SB550-28-15 | 8 | 65 | 1,936 | 2,456 | 194 | 476,464
SB560-28-10 | 12 | 65 | 1,949 | 2,729 | 428 | 1,168,012
SB560-28-11 | 8 | 65 | 1,052 | 1,572 | 101 | 158,772

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Cessna Aircraft Company: Docket No. FAA-2005-20970; Directorate Identifier 2004-NM-53-AD.

Comments Due Date

(a) The FAA must receive comments on this AD action by November 21, 2005.

Affected ADs

(b) None.

Applicability

(c) This AD applies to the Cessna airplanes listed in Table 1 of this AD, certificated in any category.

Table 1.—Applicability
Airplane model(s) | Serial Nos.
500 and 501 | 0001 through 0689 inclusive.
S550 | 0001 through 0160 inclusive.
550 and 551 | 0002 through 0733 inclusive.
550 | 0801 through 1075 inclusive.
560 | 0001 through 0648 inclusive.

Unsafe Condition

(d) This AD was prompted by a report of a chafed electrical wiring harness, which was arcing inside the fuel tank. We are issuing this AD to prevent potential fuel vapor ignition in a fuel tank, which could result in explosion and loss of the airplane.

Compliance

(e) You are responsible for having the actions required by this AD performed within the compliance times specified, unless the actions have already been done.

Service Information

(f) The term “service bulletin” as used in this AD refers to the applicable service bulletin listed in Table 2 of this AD.

Table 2.—Service Information
For Cessna model— | Having serial numbers— | Use Cessna service bulletin— | Dated—
500 and 501 airplanes | 0001-0689 | SB500-28-12 | June 14, 2004.
S550 airplanes | 0001-0160 | SBS550-28-08 | May 7, 2004.
550 and 551 airplanes | 0002-0733 | SB550-28-14 | December 2, 2003.
550 airplanes | 0801-1075 | SB550-28-15 | January 20, 2004.
560 airplanes | 0001-0538 | SB560-28-10 | April 23, 2004.
560 airplanes | 0539-0648 | SB560-28-11 | March 12, 2004.

AFM Revision

(g) Within 25 flight hours after the effective date of this AD: Revise the Limitations section of the applicable Cessna airplane flight manual (AFM) to prohibit use of the wing fuel boost pumps for defueling under certain conditions, by inserting the applicable temporary change identified in Cessna Service Bulletin SB550-28-14, dated December 2, 2003, or identified in Table 3 of this AD.

Table 3.—Temporary Changes
Cessna temporary change— | Dated— | To the—
500FM TC-R57-01 | April 5, 2004 | Cessna Model 500 AFM.
500FM TC-R57-02 | April 5, 2004 | Cessna Model 500 AFM.
500FM TC-R57-03 | April 5, 2004 | Cessna Model 500 AFM.
55BFM TC-R10-07 | March 17, 2004 | Cessna Model 550 Citation Bravo AFM.
55BFM TC-R10-08 | March 17, 2004 | Cessna Model 550 Citation Bravo AFM.
55BFM TC-R10-09 | March 17, 2004 | Cessna Model 550 Citation Bravo AFM.
560FM TC-R13-01 | March 4, 2004 | Cessna Model 560 Citation V AFM.
560FM TC-R13-02 | March 4, 2004 | Cessna Model 560 Citation V AFM.
560FM TC-R13-03 | March 4, 2004 | Cessna Model 560 Citation V AFM.
56FMA TC-04-01 | March 4, 2004 | Cessna Model 560 Citation Ultra AFM.
56FMA TC-04-02 | March 4, 2004 | Cessna Model 560 Citation Ultra AFM.
56FMA TC-04-03 | March 4, 2004 | Cessna Model 560 Citation Ultra AFM.
56FMB TC-R03-10 | March 12, 2004 | Cessna Model 560 AFM.
56FMB TC-R03-11 | March 12, 2004 | Cessna Model 560 AFM.
56FMB TC-R03-12 | March 12, 2004 | Cessna Model 560 AFM.
S55CA TC-04-01 | July 8, 2004 | Cessna Model S550 Citation S/II AFM.
S55CA TC-04-02 | July 8, 2004 | Cessna Model S550 Citation S/II AFM.
S55CA TC-04-03 | July 8, 2004 | Cessna Model S550 Citation S/II AFM.
S55FM TC-04-01 | March 4, 2004 | Cessna Model S550 Citation S/II AFM.
S55FM TC-04-02 | March 4, 2004 | Cessna Model S550 Citation S/II AFM.
S55FM TC-04-03 | March 4, 2004 | Cessna Model S550 Citation S/II AFM.

Placard Installation

(h) Within 25 flight hours after the effective date of this AD: Install a placard close to the fuel quantity gauge, in accordance with the Accomplishment Instructions of the service bulletin. In addition to the specifications in the service bulletin, the letters on the placard must be at least ¼-inch tall.

Inspection and Modification

(i) Within 300 flight hours after the effective date of this AD: Do the actions specified in paragraphs (i)(1) and (i)(2) of this AD in accordance with the Accomplishment Instructions of the service bulletin.

(1) Do a detailed inspection for chafed wiring of the wing fuel boost pumps, and, before further flight thereafter, do all applicable corrective and other specified actions.

(2) Modify the wing fuel boost pumps.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(j) Before further flight after the inspection and modification required by paragraph (i) of this AD, remove the AFM temporary change and placard required by paragraphs (g) and (h) of this AD.

Reporting Clarification

(k) Although the service bulletin specifies to submit certain information to the manufacturer, this AD does not include that requirement.

Alternative Methods of Compliance (AMOCs)

(l) The Manager, Wichita Aircraft Certification Office (ACO), FAA, has the authority to approve AMOCs for this AD, if requested in accordance with the procedures found in 14 CFR 39.19.

Issued in Renton, Washington, on October 18, 2005.
Kevin M. Mullin,
Acting Manager, Transport Airplane Directorate, Aircraft Certification Service.

[FR Doc. 05-21309 Filed 10-24-05; 8:45 am]

BILLING CODE 4910-13-P